DEPARTMENT OF TRANSPORTATION

National Highway Traffic Safety Administration

Discretionary Cooperative Agreement Program To Support Implementation of the National Strategies for Advancing Bicycle Safety Agenda

AGENCY: National Highway Traffic Safety Administration, DOT.

ACTION: Announcement of discretionary cooperative agreement opportunities to support efforts to implement the strategies and goals of the National Strategies for Advancing Bicycle Safety agenda.

SUMMARY: The National Highway Traffic Safety Administration (NHTSA) announces discretionary Cooperative Agreement opportunities to provide funding to individuals and organizations in support of the implementation of the National Strategies for Advancing Bicycle Safety, a document designed to reduce the incidence of bicycle related fatalities and injuries. In FY02, NHTSA funded six (6) demonstration projects to support the National Strategies “agenda.” This year, NHTSA anticipates funding up to four (4) demonstration projects for a minimum period of one year and a maximum period of two years. These Cooperative Agreements will support projects that foster implementation of the goals and strategies under the National Strategies for Advancing Bicycle Safety.

This notice solicits applications from public and private, non-profit and not for-profit organizations, state and local governments and their agencies or a consortium of the above. Interested applicants must submit a packet as further described in the application section of this notice. The application packet will be evaluated to determine which organizations will be awarded cooperative agreements.

DATES: Applications must be received in the office designated below on or before 3 p.m. (EDT), on July 7, 2004.

ADDRESSES: Applications must be submitted to the National Highway Traffic Safety Administration, Office of Contracts and Procurement (NPO-220), Attention: Ms. Maxine Edwards, 400 Seventh Street SW., Room 5301, Washington, DC 20590. All applications submitted must include a reference to NHTSA Cooperative Agreement Program Number DTNH22-04-H-05090.

Applicants shall provide a complete mailing address where Federal Express mail can be delivered.

FOR FURTHER INFORMATION CONTACT: Questions may be directed by e-mail (preferred method) to Ms. Maxine Edwards, Office of Contracts and Procurement at Maxine.Edwards@nhtsa.dot.gov. Alternatively, Ms. Edwards may be contacted by phone at 202-366-4843. To allow for sufficient time to address questions appropriately, all questions must be submitted by no later than June 23, 2004. All interested parties are advised that no separate application package exists beyond the contents of this announcement.

SUPPLEMENTARY INFORMATION:

Background

About 85 million adults and children ride their bicycles every year. For children and teens, the bicycle is a primary means of transportation when traveling independently. In addition, an estimated half million people bike to work in the United States every morning. Each year, more than 500,000 bicyclists of all ages sustain cycling injuries that require emergency department care. In 2002, 662 pedalcyclists were killed and an additional 48,000 were injured in traffic crashes. Pedalcyclists fatalities occurred more frequently in urban areas (68 percent), at non-intersection locations (68 percent), between the hours of 5 p.m. and 9 p.m. (33 percent), and during the months of July, August, and September (35 percent). Pedalcyclists under age 16 accounted for 24 percent of all pedalcyclists killed and 39 percent of those injured in traffic crashes in 2002 (compared to 42 percent of pedalcyclists killed in 1992). The highest fatality rate is in males 10-15 years old; overall, the highest fatality rate is also within the 10-15 year old range. Pedalcyclists 25 years of age and older have made up an increasing proportion of all pedalcyclist deaths since 1992. The proportion of pedalcyclist fatalities age 25-64 was 1.4 times as high in 2002 as in 1992 (57 percent and 40 percent, respectively). Further, the average age of those killed in 2002 was 35.7 years, and the average age of those injured was 26.7 years.

NHTSA's current and future initiatives to promote bicycle safety are almost exclusively based on implementing the coordinated “agenda” developed in July 2000 by a diverse group of bicycle advocates, injury prevention specialists, and government representatives. The bicycle safety “agenda,” a document known as The National Strategies For Advancing Bicycle Safety, represents an effort to work with the cycling community to plan significant policies and strategies to advance the safety of bicyclists, regardless of age. In review, it addresses five key goals: (1) Motorists will share the road; (2) Bicyclists will ride safely; (3) Bicyclists will wear helmets; (4) The legal system will support safe bicycling; and (5) Roads and paths will safely accommodate bicyclists. These goals are designed to be a road map for policy makers, safety specialists, educators, and the bicycling community as they undertake national, state, and local efforts to increase safe bicycling.

The strategies outlined in the National Strategies for Advancing Bicycle Safety, are considered to be those that can be initiated and completed within a three to five year time frame. Moreover, these strategies are expected to build local support and capacity for efforts to improve safe bicycling. Finally, the National Strategies for Advancing Bicycle Safety provides guidance and direction to those seeking to improve bicycle safety. To continue to facilitate implementation efforts, NHTSA proposes to support approximately four (4) projects, aimed at putting into action one or more of the strategies outlined under Goals 1-4 of the National Strategies for Advancing Bicycle Safety. Copies of the National Strategies for Advancing Bicycle Safety are available on the NHTSA website at http://www.nhtsa.dot.gov/people/injury/pedbimot/bike/general.html

Objective

The objective of this cooperative agreement is to provide seed monies to stakeholders for the purpose of implementing aspects of Goals 1-4 of the National Strategies for Advancing Bicycle Safety. NHTSA intends to award up to four cooperative agreements (depending on available funding) to support the goals of this initiative. Each cooperative agreement recipient will be expected to identify and coordinate an effort that supports one or more of the goals and one or more of the strategies outlined under the goals. Length of performance will vary depending on the scope of the proposed effort. However, projects will be considered for a minimum of one year and a maximum of two years.

Proposals must address at least one of the following projects:

1. Identify and document current and proposed “Share the Road” campaigns for motorists and bicyclists. Identify the key components of these campaigns as well as missing elements. Design and test a strong and potentially effective “Share the Road” campaign, which can serve as a national model that can be adapted at state and local levels. Innovative methods to implement this campaign are encouraged.

2. Identify effective strategies for reaching motorists to share the road with bicyclists. Select and pilot test a number of innovative approaches. Make specific recommendations for a model approach, which may include a combination of strategies.

3. Identify and document bicycle safety approaches specifically tailored to reach underserved, nontraditional and diverse populations (i.e., low income, ethnic groups, disabilities, ages, geographic locations). Specify the key components of programs/approaches for reaching such populations/audiences, and develop promising approaches and optimum delivery mechanisms for pilot testing. If few approaches exist, select and define an underserved population. Develop and test innovative approaches.

4. Identify the most effective marketing strategies and approaches (awareness, education and intervention) to reach the various intended audiences about bicycle safety. Consider multiple audiences including college age riders, older adults, returning riders (those who have not ridden for years). Be specific in identifying promising and effective approaches for each audience. Select one or more audiences to pilot test, comparing use of various venues. (Parents, PTA/school board members, college students, returning bicycle riders, older adults, etc.)

5. Identify and assess how bicycle crash data are collected and recorded by law enforcement. What are the data collection procedures and practices? How do these affect the determination of fault between the driver and rider? Assess the usefulness of existing data reporting systems in tracking incidents and injuries involving bicycles and motor vehicles.

6. Investigate how courts are currently adjudicating bicycle-related incidents. Include judicial outcomes.

7. Assess the availability and adequacy of bicycle-related data and reporting systems used by the courts.

NHTSA Involvement

NHTSA will be involved in all activities undertaken as part of the Cooperative Agreement program and will, for each Cooperative Agreement awarded:

1. Provide a Contracting Officer's Technical Representative (COTR) to participate in the planning and management of this cooperative agreement and to coordinate activities between the Grantee and NHTSA.

2. Provide information and technical assistance from government sources within available resources and as determined appropriate by the COTR.

3. Serve as a liaison between NHTSA Headquarters, Regional Offices, and others (Federal, State and local) interested in reducing bicycle-related injuries and fatalities and promoting the activities of the Grantee.

4. Review and provide comments on program content, materials, and evaluation activities.

5. Stimulate the transfer of information among Grantees and others engaged in bicycle safety activities.

Availability of Funds

Approximately $200,000 in total federal funding is available for this Cooperative Agreement project. The government will contribute federal funds up to $50,000 for each Cooperative Agreement. The total number of awards will depend on the quality of the proposals submitted. Given the limited amount of funds available for this effort, applicants are strongly encouraged to seek other funding opportunities to supplement the Federal funds. Depending on the number of Cooperative Agreements awarded, NHTSA reserves the right to fully fund Cooperative Agreements at the time of award or incrementally over the period of the Cooperative Agreement.

Period of Performance

The period of performance for Cooperative Agreements awarded under this Federal Register Notice is a minimum of one year and a maximum of two (2) years from the effective date of award.

Eligibility Requirements

Public and private, non-profit and not-for-profit organizations, and governments and their agencies or a consortium of the above may submit applications. Thus, universities, colleges, research institutions, hospitals, other public and private (non-or not-for-profit) organizations, and state and local governments are eligible to apply. Interested applicants are advised that no fee or profit will be allowed under this Cooperative Agreement program.

Application Procedure

Each applicant shall submit one (1) original and two (2) copies of the application package to: Ms. Maxine Edwards, DOT/NHTSA, Office of Contracts and Procurement (NPO-220), 400 Seventh Street, SW., Room 5301, Washington DC 20590. Applications must include a completed Application for Federal Assistance (Standard Form 424—Revised 4/88). An additional two copies will facilitate the review process, but are not required.

Only complete packages received on or before 3 p.m., July 7, 2004 will be considered. No facsimile transmissions will be accepted. Applications must contain a reference to NHTSA Cooperative Agreement Number DTNH22-04-H-05090. Unnecessarily elaborate applications beyond what is sufficient to present a complete and effective response to this invitation should not be submitted.

Application Contents

1. The application package must be submitted with OMB Standard Form 424, (Rev 4-88, including 424A and 424B), Application for Federal Assistance, including 424A, Budget Information-Non-construction Program, and 424B, Assurances-Non-construction Programs, with the required information provided and the certified assurances included. Forms are electronically available for downloading at: www.whitehouse.gov/omb/grants/index.html. While the Form 424-A deals with budget information, and Section B identifies Budget Categories, the available space does not permit a level of detail that is sufficient to provide for a meaningful evaluation of the proposed costs. Therefore, supplemental information must be provided which presents a detailed breakout of the proposed costs (detail labor, including labor category, level of effort, and rate; direct materials, including itemized equipment; travel and transportation, including projected trips and number of people traveling; subcontractors/subgrants, with similar detail, if known; and overhead), as well as any costs the Applicant proposes to contribute or obtain from other sources in support of the projects in the project plan. The Applicant shall also provide documentation supporting all costs for which federal funding is being requested. The estimated costs should be separated and proposed by year (i.e., A twelve-month proposed period of performance shall require one budget; A proposed period of performance in excess of twelve months shall include one budget for the initial twelve months and a second budget for the period requested in excess of twelve months.)

2. Applicants are encouraged to seek, and use in-kind contributions or funding other than the federal funds for this Cooperative Agreement effort. Since activities may be performed with a variety of financial resources, including in-kind contributions, Applicants need to fully identify all project costs and their funding sources in the proposed budget.

3. Program Narrative Statement: The proposal shall describe fully the scope of the Cooperative Agreement and identify which of the seven projects listed under the “Objective” section of this announcement the proposal addresses. Also, applications for this Cooperative Agreement must include the following information in the program narrative statement:

(A) A table of contents including page number references.

(B) If applicable to the effort proposed by Applicant, the proposal shall include a description of the community in which the Applicant proposes to implement or pilot test a bicycle safety program effort in support of the selected goal identified in the National Strategies for Advancing Bicycle Safety. For the purpose of this program, a community includes a city, town or county, small metropolitan area or a group of cities, towns or counties in a particular region. It should be large enough so that the program can have a demonstrable effect on bicycling and bicycle safety. The description of the community shall include, at a minimum: Community demographics including bicycle population; The community's bicycle safety problems; Data sources available; Existing traffic safety programs; Bicycle helmet use laws; Bicycle education programs; and Community resources.

(C) Work Plan, Technical Approach, Technical Capability: A description of the goal(s) of the project/program and how the Applicant plans to meet the goal(s). This must be specific with respect to the particular problem(s) being addressed and how the Applicant will successfully address the problem(s). For example, if the Applicant is proposing to review and evaluate existing materials, how will the materials be identified? What partnerships may be necessary? What criteria will be used to evaluate the materials? How will the results be reported? Include letters of agreement and support, as appropriate. Also include a description of the specific activity(ies) proposed by the Applicant. What partners need to be involved in the effort to ensure success? To what degree has the buy-in of these groups been secured? How does the proposed project contribute to improving bicycle safety? What is “success” and how will it be determined? The proposal shall include a detailed explanation of time schedules, milestones, and product deliverables, including quarterly reports and draft and final reports. The Applicant shall discuss technical problems, barriers and/or critical issues related to the successful completion of this Cooperative Agreement effort. Should this Cooperative Agreement effort build upon an existing approach or program, the Applicant shall include a discussion of how the innovative, new, or creative features associated with this Cooperative Agreement to be implemented make this project different from what has been tried in the past. The factor will also include the identification and the means to include partners and groups to participate in the proposed project, including non-traditional partners and how the project may benefit from their participation. In addition, while the technical approach may meet the needs at the local and/or state level, the proposal must include a discussion of the applicability and capability for replication at the national level. To evaluate an Applicant's Technical Capability, the proposal shall include a separately labeled section with information explaining how the Applicant meets the following special competencies:

(1) Expertise in traffic safety, program development and implementation, and knowledge and experience in bicycle safety issues, especially related to the specific goal(s) addressed by applicant. If proposing a community intervention, demonstrate knowledge and familiarity with data sources (including local data) needed to determine the incidence of bicycle-related injuries.

(2) Capacity to:

a. Design, implement and evaluate innovative approaches for addressing difficult problems related to issues associated with bicycle safety, crashes and injuries.

b. Work successfully with bicycling and other community groups.

c. Collect and analyze both quantitative and qualitative data.

d. Synthesize, summarize, and report results, which are useable and decision-oriented.

e. Demonstrate experience in working in partnership with others, for example, law enforcement, health care systems, government agencies, the media, etc.

(3) Commitment and Support: When other sources and organizations are required to complete the proposed effort, the Applicant shall provide proof of said organizations' willingness to cooperate on the effort. Proof may be presented in the form of Letters of Support, or Letters of Commitment indicating the support to be provided to the Grantee.

(D) Evaluation Plan: A description of the Evaluation Plan, including how information (data) will be obtained, compiled, analyzed, and reported. The work plan must clearly describe, from the onset of the project, how “an outcome-oriented result” will be measured. This should be articulated in an evaluation plan that defines the project's potential to make a significant impact on improving bicycle safety or reducing bicycle crashes and associated injuries and fatalities on roadways and/or enforcement initiatives to improve traffic safety related to bicycles. The evaluation plan may differ depending on whether the focus of the effort is a community or examination of data. Issues that need to be considered in the evaluation plan include how the information/data collected in the project will be compiled, analyzed, interpreted and reported, and by whom? When information is qualitative, what criteria will be used to analyze it? Are there sufficient data/information sources and is access ensured from appropriate owners or collectors of data to obtain and appropriately analyze the quantitative and qualitative information needed on the proposed project? Applicants shall dedicate a minimum of five (5) percent of the total amount of federal money awarded under this cooperative agreement to evaluate the proposed project. This shall be noted in the applicants proposed budget.

(E) Qualifications of Project Personnel and Project Management Experience: A description of human resources to be used in this Cooperative Agreement effort. The Application shall identify the proposed project manager and other personnel considered critical to the successful accomplishment of the project, including a brief description of their qualifications and respective organizational responsibilities. The role and responsibilities of the applicant and any others included in the application package shall be specified. The proposed level of effort in performing the various activities shall also be identified. The applicant must furnish an organizational chart and résumés of each proposed staff member.

(F) Problem Identification: In describing the problem, the applicant shall include:

(1) Local data to support the issue, including but not limited to the size of the community (census data) or crash data (injuries and fatalities among bicyclists);

(2) Ridership;

(3) Other characteristics of the local problem as it relates to the National Strategies for Advancing Bicycle Safety;

(4) A list of bicycle facilities;

(5) Information on existing programs; and

(6) Identification of noteworthy gaps.

(G) Past Performance and Financial Responsibility. To evaluate this information adequately, the Applicant shall provide the following information:

(1) Identify at least three references who can attest to the past performance history and quality of work provided by the Applicant on previous assistance agreements and/or contracts. In doing so, the Applicant shall provide the following information for each reference:

(a) Assistance Agreement/Contract Number;

(b) Title and brief description of Assistance Agreement/Contract;

(c) Name of organization, name of point of contact, telephone number, and e-mail address of point of contact at the organization with which the Applicant entered into an Assistance Agreement/Contract;

(d) Dollar value of Assistance Agreement/Contract;

(e) Any additional information, which the Applicant may provide to address the issue of past performance and financial responsibility.

(2) The Applicant shall indicate if it has ever appeared on the General Service Administration's (GSA) List of Parties Excluded From Federal Procurement and Nonprocurement Programs or on GSA's “Excluded Parties List.” If so, the Applicant shall discuss the circumstances leading up to its inclusion in either of these listings and its current status to enter into Assistance Agreements and/or Contracts.

(3) The Applicant shall indicate if it has ever filed for bankruptcy, or has had any financial problems, which may affect, negatively, its ability to perform under this Assistance Agreement.

Application Review Process and Criteria

Each application package will be reviewed initially to confirm that the applicant is an eligible candidate (as described under Eligibility Requirements) and has included all of the items specified in the Application Procedure section of this announcement. A NHTSA Evaluation Committee will then evaluate applications submitted by eligible candidates. The applications will be evaluated using the following criteria (listed in descending order of importance).

(1) Past Performance and Financial Responsibility.

The extent to which the proposed Grantee has fulfilled its performance and financial obligations on previous Assistance Agreements and/or Contracts will be evaluated.

This evaluation will include:

(a) The proposed Grantee's record of complying with milestone and performance schedules applicable to previous Assistance Agreements and/or Contracts;

(b) The proposed Grantee's record of cooperation with the awarding agency under previous Assistance Agreements and/or Contracts;

(c) The degree to which the proposed Grantee efficiently and effectively utilized Assistance Agreement and/or Contract funding;

(d) The degree to which the proposed Grantee complied with the terms and conditions of previous Assistance Agreements and/or Contracts;

(e) The degree to which the proposed Grantee complied with applicable Office of Management and Budget (OMB) Circulars and/or the Federal Acquisition Regulation, on previous Assistance Agreements and/or Contracts;

(f) The level of financial stability possessed by the proposed Grantee;

(2) Work Plan, Technical Approach, and Technical Capability.

The Applicant's proposal will be evaluated on:

(a) The extent to which the Applicant's goals are clearly articulated and the objectives are time-phased, specific, action-oriented, measurable, and achievable;

(c) The feasibility of the Applicant's approach to the development and implementation of this Cooperative Agreement project;

(d) The reasonableness, completeness, clarity and feasibility of the proposed project, including start and completion dates for major milestones/tasks associated with the Applicant's proposal.

(e) The extent to which the applicant has met the special competencies including organizational knowledge and familiarity with bicycle safety issues associated with the proposed intervention or effort; technical expertise with the intended audiences, technical and management skills needed to successfully design, administer and execute the proposed effort; ability to work with various organizations and the bicycling community to implement programs or compile data; ability to design and implement approaches for addressing bicycle safety related problems; and experience in fostering new partnerships with nontraditional partners.

(f) The degree to which the Applicant's plan may be replicated at the national level.

(3) Applicant's Evaluation Plan.

The Applicant's Evaluation Plan will be reviewed with respect to its feasibility, realism, and ability to achieve desired outcomes.

(4) Qualifications of Project Personnel and Project Management Experience.

This evaluation will measure the extent to which: (a) The proposed staff and/or contractors are clearly described, appropriately assigned, and have adequate skills and experience; (b) the level of effort (person-hours) and labor category composition for each person being proposed is reasonable for accomplishing the objectives of the project within the time frame set forth in the announcement.

(5) Problem Identification.

The extent to which the applicant clearly identifies a problem and explains creative approaches to address the problem and relates it to the National Strategies for Advancing Bicycle Safety.

Upon completion of review of those factors listed in (1) through (5) above, the Applicant's proposed budget will then be reviewed. In particular, the review will determine the fairness, reasonableness, allowability, and allocabillity of the proposed costs, the amount of any contribution (either “in-kind” or other), the degree to which the Applicant's budget reflects a prudent use of federal funds. Applicants are strongly urged to seek funds from other Federal, State, local, and private sources to augment those available under this announcement. Among proposals of equal merit, preference may be given to those that have proposed cost-sharing strategies and/or other proposed funding sources in addition to those in this announcement.

Terms and Conditions of Award

Prior to award, each applicant shall comply with the certification requirements of 49 CFR part 20, Department of Transportation New Restrictions on Lobbying, and 49 CFR part 29, Department of Transportation government-wide Debarment and Suspension (Non-procurement) and Government-wide Requirement for Drug Free Work Place (Grants).

Reporting Requirements and Deliverables/Milestones of the Cooperative Agreement

An awarded Cooperative Agreement will include the following requirements:

(a) Monthly or Quarterly Progress Reports (which will be agreed upon at time of award) to include a summary of the previous month or quarter's activities and accomplishments, challenges experienced and resolutions to these challenges, as well as the proposed activities for the upcoming reporting period. Any decisions and actions required in the upcoming reporting period should be included in the report. Any problems and issues that may arise and need the COTR or Contracting Officer's (CO) attention should be clearly identified in the report in a specific section. The grantee shall supply the progress report to the COTR, at a minimum, every ninety-days (90), following date of award.

(b) Initial and Subsequent Meetings with COTR: Prior to commencement of any billable activity, the Grantee shall meet with the COTR and appropriate NHTSA staff via a “kick-off” conference call within fifteen (15) days of award to discuss and refine the development, implementation, and evaluation of the project. Additional conference calls with Grantees will occur on an as needed basis. For each of the Cooperative Agreements, it is anticipated that each Grantee will need to include in their proposed budget, one (1) trip, towards the conclusion of this project, to either NHTSA headquarters or a national conference, to deliver a presentation of the project and its effectiveness. The trip destination will be decided upon by the COTR and the Grantee.

(c) Revised Project Plan: If needed, the Grantee shall submit a revised project plan incorporating verbal and written comments from the COTR based on the initial conference call. This revised plan is due no more than two (2) weeks from date of the initial meeting with the COTR.

(d) Draft Final Report: The Grantee shall prepare a Draft Final Report that includes a description of the project, issues addressed, program implementation (if relevant), analytic strategies, findings and recommendations. With regard to technology transfer, it is important to know what worked and what did not work, under what circumstances, what can be done to enhance replication in similar communities, and what can be done to avoid potential problems for future replication of the project. This is true even if the applicant reviewed and documented existing programs. The Grantee will submit the Draft Final Report to the COTR 45 days prior to the end of the performance period. The COTR will review the Draft Final Report and provide comments to the Grantee within 15 working days of receipt of the document.

(e) Final Report: The Grantee shall revise the Draft Final Report to reflect the COTR's comments. The revised final report shall include a 1-2 page Executive Summary which will be delivered to the COTR at least 15 days before the end of the performance period.

(f) Requirements for Printed Material: The print materials shall be provided to NHTSA in both laser copy and appropriate media formats (disk, CD-rom) with graphics and printing specifications to guide NHTSA's printing office and any outside organization implementing the program. Specifications follow.

(1) Digital artwork for printing shall be provided to NHTSA on diskette (100 meg Zip disk or CD rom). Files should be in current desktop design and publication programs, for example Adobe Pagemaker, or QuarkXPress, with supporting files in Adobe Illustrator, Adobe Photoshop, or Macromedia Freehand, (Corel Wordperfect and Microsoft Word are not acceptable formats). The Grantee shall provide all supporting files and fonts (both screen and printers) needed for successful output, black and white laser separations of all pages, disk directory(s) with printing specifications provided to the Government Printing Office (GPO) on GPO Form 952 to guide NHTSA's printing office, GPO, and any outside organizations assisting with program production. The Grantee shall confer with the COTR to verify all media format and language.

• Text—only documents shall be submitted in Word. Data used to develop tables or graphs, included in the Word document must be submitted as an Excel file

(2) Additionally, the program materials shall be submitted in the following format for placement on NHTSA's homepage of the world wide web.

• Original application format, for example, *pm5; *.doc; *.ppt; etc

• Section 508 compliant HTML level 3.2 or later

• Section 508 compliancy checklist

• A PDF file for viewing with Adobe Acrobat

(3) All HTML deliverables must be delivered on either a standard 3.5″ floppy disk or on a Windows 95/98 compatible formatted Iomega zip disk and labeled with the following information:

• Grantee's name and phone number

• Names of relevant files

• Application program and version used to create the file(s)

• If the files exceed the capacity of a high density floppy, a Windows 95 compatible formatted Iomega zip disk is acceptable

(4) Graphics must be saved in Graphic Interchange Format (GIF) or Joint Photographic Expert Group (JPEG). Graphics should be prepared in the smallest size possible, without reducing the usefulness or the readability of the figure on the screen. Use GIF for solid color or black and white images, such as bar charts, maps, or diagrams. Use JPEG (highest resolution and lowest compression) for photographic images having a wider range of color or grey-scale tones. When in doubt, try both formats and use the one that gives the best image quality for the smallest file size. Graphic files can be embedded in the body of the text or linked from the body text in their own files: the latter is preferable when a figure needs to be viewed full screen (640 × 480 pixels) to be readable.

• Tabular data must be displayed in HTML table format.

• List data must be displayed in HTML list format.

• Pre-formatted text is not acceptable.

• Currently, frames are not acceptable.

• JAVA, if used, must not affect the readability or usefulness of the document, rather, only enhance it.

• Table background colors may be used, but must not be relied upon (for example, a white document background with a table with colored background may look nice with white text, but the colored background doesn't show up on the user's browser the text shall be white against white and unreadable).

• All HTML documents must be saved in PC format and tested on a PC before delivery.

• During all phases of program development, draft program content and materials shall be provided to the COTR, as appropriate, for approval and coordination within NHTSA. Draft materials shall also be used for program message testing (the method of testing chosen in consultation with and approved by the COTR) to ensure that the content and messages are clear, easily understood and produce the desired effect with intended audiences. The Final and Summary Reports shall also be submitted in PDF format.

(g) Guidelines for Contractors: Contractors preparing publications for the NHTSA must submit them so that they are ready for posting onto the Web. All documents must be provided in HTML format (PDF format is optional or whenever requested) and submitted along with a completed web-based Internet information and Application Section 508 Checklist (see below). All documents must be Section 508 compliant and both Netscape (versions 4.0 or later) and Internet Explorer (versions 5.0 or later) compliant.

• All Web/HTML documents must comply with the 36 CFR 1194.22 accessibility standards that implement Section 508 of the Rehabilitation Act of 1973. These standards and guidelines are available for viewing in greater detail at the Access Board Web Site at: http://www.access-board.gov/sec508/guide/1194.22.htm.

• Summary of Section 508

• A text equivalent for all images shall be provided (e.g., via “alt”, “longdesc”, or in element content).

• Equivalent alternatives (e.g., captioning, transcripts) for any multimedia presentation shall be synchronized with the presentation.

■ Web pages shall be designed so that all information conveyed with color is also available without color.

■ Documents shall be organized so they are readable without requiring an associated style sheet.

■ Client-side image maps shall be provided instead of server-side image maps except where the regions cannot be defined with an available geometric shape.

■ Row and column headers shall be identified for data tables. Markup shall be used to associate data cells and header cells for data tables that have two or more logical levels of row or column headers. The “scope” attribute for simple data tables and the “ID” and “Headers” attribute for more complex data tables.

■ Frames are not acceptable on the NHTSA site.

■ Pages shall be designed to avoid causing the screen to flicker at a high intensity rate.

■ When pages utilize scripting languages to display content, or to create interface elements, the information provided by the script shall be identified with functional text that can be read by assistant technology.

■ When a web page requires that an applet, plug-in or other application be present on the client system to interpret page content, the page must provide a link to a plug-in or applet that complies with § 1194.21(a) through (l).

■ When designing electronic forms to be completed on-line, the form shall allow people using assistant technology to access the information, field elements, and functionality required for completion and submission of the form, including all directions and cues.

■ A method shall be provided that permits users to skip repetitive navigation links.

■ When a timed response is required, the user shall be alerted and given sufficient time to indicate more time is required. (NHTSA prefers that no HTML page require a “timed response” time limit).

• Checking pages for Accessibility Compliance—You may find many tools and resources for checking and learning more about Section 508 compliancy at http://www.section508.gov/

• Images: All images should comply with Section 508 standards and be provided in either Graphic Interchange Format (GIF) or in Joint Photographic Experts Group (JPEG) format. Images should be prepared in the smallest size possible, without reducing the usefulness or readability of the figure on the screen.

• PDF: Use Adobe Acrobat Distiller to prepare PDF files that are converted from desktop published materials. Set up bookmarks for the main headings to aid navigation whenever applicable. Use the “make accessible” (available at http://access.adobe.com/) plug-in to make all PDFs accessible. The optimum size for PDF files is between 50K and 500K, and should be no more than 1.5MB. Files larger than 1.5MB require excessive downloading time. Divide large files into multiple smaller files as necessary.

• Structure/Format Issues: All HTML documents submitted for placement on NHTSA's web site must be written in “standard” HTML coding. All HTML's must also conform to the following file structure:

• Title Pages—The Title page of any HTML document must be saved as “index”. This page, at a minimum, must contain both the full title of the publication and the DOT HS number, if any, in the <title> tag. The index page must also contain adequate links to navigate throughout the HTML document. The most common way to accomplish this objective is to provide a “Table of Contents” from which users can navigate to any part of the HTML document.

• Links—No “dead” links should exist on the NHTSA Web site. All links existing on a NHTSA web page that points to a URL outside of the NHTSA Web site must be routed through the NHTSA “Disclaimer Page”. The hyper link “markup” format used for accessing this disclaimer page is: http://www.nhtsa.dot.gov/exit.cfm?link=http:// www.“wherever” (“wherever” represents the “outside” URL).

Note: All electronic files, including the transportation media (e.g., Iomega zip discs or CD-ROM discs) are to be considered property of the National Highway Traffic Safety Administration. Additionally: Unless arranged in advance, all physical, electronic, intellectual and transport media provided to NHTSA shall be considered as property of the government. Consequently, arrangements for use of intellectual property, such as digital photo or copyrighted items must be agreed to, before starting a project, clearly defined in writing and accompany each job. The name, address, and contact information of the supplier of the proprietary information must clearly be spelled out and supplied to NHTSA. The contractor is responsible for the cost of “first use” charges by NHTSA with the supplier of proprietary media, based on the initial nature of the project. NHTSA will be responsible for subsequent use charges. Optimally, properly obtained “royalty-free” images should be used. If a “photo shoot” is conducted, all photos and materials generated from the shoot must contain signed releases from all photographers and models involved in the shoot.

• Section 508 Checklist—Checkpoints:

(1) A text equivalent for every non-text element shall be provided (e.g., via “alt”, “longdesc”, “d-link” or in element content).

(2) Equivalent alternatives for any multimedia presentation shall be synchronized with the presentation.

(3) Web pages shall be designed so that all information conveyed with color is also available without color, for example from context or markup.

(4)Documents shall be organized so they are readable without requiring an associated style sheet.

(5)Redundant text links shall be provided for each active region of a server-side image map.

(6) Client-side image maps shall be provided instead of server-side image maps except where the regions cannot be defined with an available geometric shape.

(7) Row and column headers shall be identified for data tables.

(8) Markup shall be used to associate data cells and header cells for data tables that have two or more logical levels of row or column headers.

(9) Frames shall be titled with text that facilitates frame identification and navigation. (The use of frames on the NHTSA site is strongly prohibited)

(10) Pages shall be designed to avoid causing the screen to flicker with a frequency greater than 2 Hz and lower than 55 Hz.

(11) A text-only page, with equivalent information or functionality, shall be provided to make a web site comply with the provisions of these standards, when compliance cannot be accomplished in any other way. The content of the text-only page shall be updated whenever the primary page changes.

(12) When a web page requires that an applet, plug-in or other application be present on the client system to interpret page content, the page must provide a link to a plug-in or applet that complies with § 1194.21(a) through (l).

(13) When designing electronic forms to be completed on-line, the form shall allow people using assistive technology to access the information, field elements, and functionality required for completion and submission of the form, including all directions and cues.

(14) A method shall be provided that permits users to skip repetitive navigation links.

(15) When a timed response is required, the user shall be alerted and given sufficient time to indicate more time is required.

(h) Final Project Briefing: The Grantee shall present a Final Project Briefing. Specifically:

(1) The Grantee shall brief NHTSA staff via conference call. The briefing shall last no less than 30 minutes and the Grantee shall be prepared to answer questions from the briefing's attendees.

(2) In consultation with the COTR, the Grantee should prepare to select and deliver a presentation of their project and its effectiveness at a national meeting/conference (Adjust budgets to accommodate these potential presentations.)

(3) The Grantee shall prepare a brief Microsoft PowerPoint Summary Presentation. The Grantee shall provide an electronic copy of the Microsoft PowerPoint (97) presentation so that NHTSA staff shall be able to brief senior staff or bicycle partners about grant project results (similar to a written Executive Summary).

NHTSA General Provisions

During the effective performance period of the awarded cooperative agreement, the Grantee shall be subject to the National Highway Traffic Safety Administration's General Provisions for Assistance Agreement, dated July 1995.

Susan D. Ryan,
Director, Office of Safety Programs, Program Development and Delivery.

[FR Doc. 04-13058 Filed 6-8-04; 8:45 am]

BILLING CODE 4910-59-P